NATIONAL AERONAUTICS AND SPACE ADMINISTRATION

[Notice: 23-051]

Request for Information: NASA Public Access Plan for Increasing Access to the Results of NASA-Supported Research

AGENCY: National Aeronautics and Space Administration (NASA).

ACTION: Request for information (RFI); notice of comment period.

SUMMARY: NASA seeks public input on the “NASA's Public Access Plan, Increasing Access to the Results of Scientific Research” (NASA Public Access Plan). NASA has a decades-long history of providing public access to scholarly publications and data resulting from the research it supports, including through the 2014 Open Access Plan. In 2022, the White House Office of Science and Technology Policy (OSTP) released a memorandum on “Ensuring Free, Immediate, and Equitable Access to Federally Funded Research” that establishes new guidance for improving public access to scholarly publications and data resulting from Federally supported research. The NASA Public Access Plan outlines the proposed approach NASA will take to implement the new guidance, consistent with its longstanding commitment to public access.

DATES: For the request for information published on May 18, 2023, submit comments by August 17, 2023. Early comments are encouraged. Comments received after this date will be considered to the extent practicable.

ADDRESSES: All responses to this RFI must be submitted in an electronic format only via the email mailbox: hq-publicaccess@mail.nasa.gov.

• Mail: Comments submitted in a manner other than the one listed above, including emails or letters sent to NASA, OCS, SMD, or other NASA officials may not be accepted.

• Hand Delivery: Please note that NASA cannot accept any comments that are hand delivered or couriered. In addition, NASA cannot accept comments contained on any form of digital media storage devices, such as CDs/DVDs and USB drives.

FOR FURTHER INFORMATION CONTACT: Issues regarding clarifications or questions on this RFI can be sent to Dr. Louis Barbier, NASA Associate Chief Scientist, at Louis.M.Barbier@nasa.gov, 202-358-1421.

Issued by Office of The Chief Scientist, National Aeronautics and Space Administration

SUPPLEMENTARY INFORMATION:

I. Background

NASA has a long-standing culture of promoting the full and open sharing of data with the research communities, private industry, academia, and the general public. NASA space and airborne missions routinely process, archive, and distribute their data to researchers around the globe. Data from all NASA spacecraft are currently available through the individual mission and theme archives. Through NASA's 2014 Open Access Plan NASA responded to OSTP's call for open access to peer-reviewed scientific publications albeit with an embargo period not to exceed 12 months. That plan also called on NASA researchers to submit a Data Management Plan along with their proposals to ensure long-term stewardship of federally funded data.

Increasing access to publications and data resulting from federally funded research offers many benefits to the scientific community and the public. Access can accelerate research, generate higher quality scientific results, encourage greater scientific integrity, and enable future inquiry, discovery, and translation for scientific research. Importantly, these efforts also uphold NASA's commitment to responsible stewardship of the Nation's investment in biomedical research by improving transparency and accessibility of taxpayer-funded research.

NASA efforts align with public access directives, policies, and programs across the U.S. Government. Since 2013, federal public access policy has been guided by the OSTP Memorandum on Increasing Access to the Results of Federally Funded Research, which directed all federal departments and agencies with more than $100 million in annual research and development expenditures to develop a plan to support increased public access to scholarly publications and digital data resulting from federally funded research. On August 25, 2022, OSTP released updated policy guidance (2022 OSTP Memorandum) that focuses on accelerated access to scholarly publications (most notably, by removing the currently allowable 12-month embargo period for free access), increased access to scientific data, and enhanced tracking of research products through persistent identifiers (PIDs) and metadata.

The NASA Public Access Plan provides a roadmap for how NASA proposes to accelerate access to scholarly publications, scientific data, and software and will help ensure these research products are findable and equitably accessible to support further scientific discovery. NASA plans to modify implementation of the NASA Public Access Policy to accommodate novel elements of the 2022 OSTP Memorandum related to scholarly publications.

NASA looks forward to working across the U.S. Government to support our shared commitment to responsible stewardship of the Nation's investment in biomedical research by improving transparency and accessibility of taxpayer-funded research.

Request for Information

NASA's Public Access Plan

(https://www.nasa.gov/sites/default/files/atoms/files/nasa_ocs_public_access_plan_may_2023.pdf) is now being released for a period of public comment. The plan adheres to NASA's principles surrounding open access, in part:

• Open Access to federally-funded scientific research has the potential to increase the pace of scientific discovery, advance technology development, speed up exploration, and promote more efficient and effective use of government funding and resources.

• Sharing and preserving publications, data, and software are central to protecting the integrity of science by facilitating validation of results, as well as advancing science by broadening the value of research data to disciplines other than the originating one and to society at large.

II. Discussion of Questions

The NASA Public Access plan also goes beyond the OSTP memorandum and calls for open access to software as well, in keeping with the Transition to Open Science (TOPS) which NASA is proudly pioneering for the federal government.

NASA seeks information regarding the NASA Public Access Plan from all interested individuals and communities, including, but not limited to, authors, investigators, research institutions, libraries, scholarly publishers, scientific societies, healthcare providers, patients, students, educators, research participants, and other members of the public. While comments are welcome on all elements of the NASA Public Access Plan, input would be most welcome on the particular issues identified below.

1. How to best ensure equity in publication opportunities for NASA-supported investigators. The NASA Public Access Plan aims to maintain the existing broad discretion for researchers and authors to choose how and where to publish their results. Consistent with current practice, the NASA Public Access Plan allows the submission of final published articles to Clearinghouse for the Open Research of the United States (CHORUS), the NASA Scientific, Technical and Research Information discoVEry System (STRIVES), Astrophysics Data System (ADS), or NASA's PubSpace to minimize the compliance burden on NASA-supported researchers. These submission routes are allowed regardless of whether or not the journal uses an open access model, a subscription model of publishing, or other publication model. This flexibility aims to protect against concerns that have been raised about certain publishing models potentially disadvantaging early career researchers and researchers from limited-resourced institutions or under-represented groups. NASA policy allows supported researchers to charge reasonable publishing costs against their awards. NASA seeks information on additional steps it might consider taking to ensure that proposed changes to implementation of the Public Access Policy do not create new inequities in publishing opportunities or reinforce existing ones.

2. Steps for improving equity in access and accessibility of publications. Removal of the currently allowable 12-month embargo period for NASA-supported publications will improve access to these research products for all. The NASA Public Access Plan also supports making articles available in human and machine-readable forms to support automated text processing. NASA will also seek ways to improve the accessibility of publications by diverse communities of users.

3. Methods for monitoring evolving costs and impacts on affected communities. NASA proposes to actively monitor trends in publication fees and policies to ensure that they remain reasonable and equitable. NASA seeks information on effective approaches for monitoring trends in publication fees and equity in publication opportunities.

4. Input on considerations to increase findability and transparency of research. NASA seeks suggestions on any specific issues that should be considered in efforts to improve use of PIDs (such as ORCID) and metadata, including information about experiences institutions and researchers have had with adoption of different identifiers.

5. Suggestions on sharing and archiving of software. Sites like GitHub and Zenodo offer ways to distribute and manage software. NASA is seeking suggestions on improving the archiving, sharing, and maintenance of software for reuse.

III. Written Responses

Responses to this RFI are voluntary and may be submitted anonymously. You may also voluntarily include your name and contact information with your response. Other than your name and contact information, please do not include in the response any personally identifiable information or any information that you do not wish to make public. Proprietary, classified, confidential, or sensitive information should not be included in your response.

Written responses should be in a PDF file attached to the email submission, not to exceed 4 pages, excluding a cover page and any references. You may respond to some or all questions listed in the RFI. There is no limit on the number of responses from an individual or an institution or its organizational units.

IV. Review of Public Feedback

After the Office of the Chief Scientist (OCS) has finished reviewing the responses, the responses may be posted to the NASA OCS website without redaction. All submissions will be acknowledged and NASA will publicize a summary of the submissions within 90 days.

Cheryl Parker,
Federal Register Liaison Officer.

[FR Doc. 2023-10643 Filed 5-17-23; 8:45 am]

BILLING CODE 7510-13-P